DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Diagnostic Tool for Diagnosing Benign Versus Malignant Thyroid Lesions

Steven Libutti et al. (NCI)

U.S. Provisional Application No. 60/560,900 filed 09 Apr 2004 (DHHS Reference No. E-124-2004/0-US-01)

Licensing Contact: Mojdeh Bahar; 301/435-2950; baharm@mail.nih.gov.

The present invention is directed to the use of genes differentially expressed in benign and malignant thyroid lesions for the diagnosis and staging of thyroid cancer. The invention allows for the analysis of RNA isolated from tissues using gene expression profiling. The invention has identified a group of genes which can be used as a diagnostic predictor model for differentiating benign versus malignant thyroid tissue using microarray or quantitative RT-PCR.

Pharmacodynamic Assay

Eun Joo Chung and Jane Trepel (NCI)

U.S. Provisional Application No. 60/548,894 filed 27 Feb 2004 (DHHS Reference No. E-094-2004/0-US-01)

Licensing Contact: Mojdeh Bahar; 301/435-2950; baharm@mail.nih.gov.

This invention is a rapid, simple, sensitive flow cytometric assay for the pharmacodynamic analysis of histone deacetylase inhibitors in clinical development as novel anti-cancer agents. The assay can be performed on 50 microliters of whole blood, the equivalent of a finger stick. The assay can quantify simultaneously the effects of multiple classes of drug and thus be used for pharmacodynamic analysis of HDAC inhibitors in combination therapy.

Adduct Compounds of Pyrrolobenzodiazepinones, Compositions Comprising the Same and Methods Related Thereto

Paul S. Liu (NCI), Gregory Turner, Babu R. Vishnuvajjala (NCI), David Thurston (EM), and Philip W. Howard (EM)

U.S. Provisional Application No. 60/513,751 filed 22 Oct 2003 (DHHS Reference No. E-007-2004/0-US-01)

Licensing Contact: Brenda Hefti; 301/435-4632; heftib@mail.nih.gov.

This invention is a small molecule that has potential as a cancer therapeutic, termed SJG-136. It is a dimeric synthetic analog of the pyrrolobenzodiazepine family of anti-tumor antibiotics derived from various Streptomyces species. SJG-136 has shown significant cytotoxicity and antitumor activity in vitro and in vivo. The particular compositions disclosed in the present application represent new structures that were not claimed previously.

Dated: August 6, 2004.
Steven M. Ferguson,
Director, Division of Technology Development and Transfer, Office of Technology Transfer, National Institutes of Health.

[FR Doc. 04-18622 Filed 8-13-04; 8:45 am]

BILLING CODE 4140-01-P